DEPARTMENT OF DEFENSE

Cost Accounting Standards Administration

AGENCY: Department of Defense (DoD).

ACTION: Notice of public meeting.

SUMMARY: The Director of Defense Procurement is sponsoring a public meeting to discuss potential opportunities to streamline the provisions in Part 31 of the Federal Acquisition Regulation concerning cost measurement, assignment, and allocation. The Director of Defense Procurement would like to hear the views of interested parties on what they believe are potential areas for streamlining in light of the evolution of Generally Accepted Accounting Principles, the advent of Acquisition Reform, and experience gained from implementation. A listing of some possible streamlining areas can be found on the Internet Home Page of the Office of Cost, Pricing, and Finance at http://www.acq.osd.mil/dp/cpf.

Upon identification of the key areas, subsequent public meetings will be held to hear views of interested parties regarding specific recommendations. The dates and times of those meetings will be published on the Internet Home Page of the Office of Cost, Pricing, and Finance.

DATES: The first meeting will be held on April 19, 2001, from 10 a.m. until 1 p.m., local time.

ADDRESSES: The meeting will be held in the Auditorium at the General Services Administration, 18th and F Streets, Washington, DC. Directions may be found on the Internet at http://www.acq.osd.mil/dp/cpf.

FOR FURTHER INFORMATION CONTACT: Mr. David Capitano, Office of Cost, Pricing, and Finance, by telephone at (703) 695-7249, by FAX at (703) 693-9616, or by e-mail at dcapitano@osd.mil.

Michele P. Peterson,
Executive Editor, Defense Acquisition Regulations Council.

[FR Doc. 01-5581 Filed 3-6-01; 8:45 am]

BILLING CODE 5000-04-M